DEPARTMENT OF THE INTERIOR

Bureau of Land Management

[LLNM931000.L14400000.BJ0000 212L1109AF]

Notice of Filing of Plats of Survey; Oklahoma

AGENCY: Bureau of Land Management, Interior.

ACTION: Notice of Filing of Plats of Survey; Oklahoma.

SUMMARY: On September 29, 2020, the BLM published a notice in the Federal Register entitled, “Notice of Filing of Plats of Survey; New Mexico; Oklahoma.” The official filing of the four Oklahoma supplemental plats listed below is hereby stayed, pending consideration of all protests.

DATES: Upon publication of this Federal Register Notice, the plats described below will be stayed.

ADDRESSES: These plats will be available for inspection in the New Mexico Office, Bureau of Land Management, 301 Dinosaur Trail, Santa Fe, New Mexico, 85004-4427. Protests of a survey should be sent to the New Mexico Director at the above address.

FOR FURTHER INFORMATION CONTACT: Michael J. Purtee, Chief Cadastral Surveyor; (505) 761-8903; mpurtee@blm.gov. Persons who use a telecommunications device for the deaf (TDD) may call the Federal Relay Service (FRS) at 1-800-877-8339 to contact Mr. Purtee during normal business hours. The FRS is available 24 hours a day, 7 days a week, to leave a message or question with the above individual. You will receive a reply during normal business hours.

SUPPLEMENTARY INFORMATION:

Indian Meridian, Oklahoma

The supplemental plat, within Township 10 North, Range 27 East, section 4, accepted July 8, 2020, for Group 224, Oklahoma.

The supplemental plat, within Township 10 North, Range 27 East, section 5, accepted July 8, 2020, for Group 224, Oklahoma.

The supplemental plat, in two sheets, within Township 10 North, Range 27 East, section 19, accepted August 13, 2020, for Group 223, Oklahoma.

The supplemental plat, within Township 11 North, Range 27 East, section 33, accepted July 8, 2020, for Group 224, Oklahoma.

The official filing of these supplemental plats is hereby stayed, pending consideration of all protests.

Authority: 43 U.S.C. Chap. 3.

Michael J. Purtee,
Chief Cadastral Surveyor, BLM New Mexico.

[FR Doc. 2021-19802 Filed 9-13-21; 8:45 am]

BILLING CODE 4310-FB-P